DEPARTMENT OF TRANSPORTATION

Federal Highway Administration

[Docket No. FHWA-2024-0083]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by January 27, 2025.

ADDRESSES: You may submit comments identified by DOT Docket ID Number 0083 by any of the following methods:

Website: For access to the docket to read background documents or comments received go to the Federal eRulemaking Portal: Go to https://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Melissa Corder, 202-366-5853, Office of Real Estate Services, Federal Highway Administration, Department of Transportation, 1200 New Jersey Avenue SE, Washington, DC 20590. Office hours are from 7 a.m. to 4 p.m., Monday through Friday, except Federal holidays.

SUPPLEMENTARY INFORMATION: We published a Federal Register Notice with a 60-day public comment period on this information collection on September 27, 2024, at 89 FR 79333. There were no comments received.

Title: Relocation Assistance Personal Interviews for FHWA Federal and Federally Assisted Programs under the Uniform Relocation Assistance and Real Property Acquisition Polies Act of 1970, as amended (Uniform Act).

Background: This program implements 42 U.S.C. 4602, concerning acquisition of real property and relocation assistance for persons displaced by FHWA Federal and federally assisted programs. It requires the provision of relocation assistance and payments to U.S. citizens and persons legally present in the United States. The information collected consists of a personal interview of affected persons to establish eligibility for relocation assistance and payments. Displacing agencies will request each person who is to be displaced by a FHWA Federal or federally assisted project to voluntarily assist the agency in determining the benefits that their household, business, farm, or non-profit organization may be eligible to receive through the personal interview to determine their needs and preferences related to the move. This information is not required from the displaced person for the agency to proceed.

Respondents: Any of the 56 State Departments of Transportations (52, including the District of Columbia, Puerto Rico), and the United States territories of American Samoa, Guam, N. Mariana Is., and the Virgin Islands of the United States (4 territories), local government agencies, persons administering projects or programs receiving financial assistance for expenditures of Federal funds on acquisition and relocation payments and required services to displaced persons that are subject to the Relocation Assistance and Real Property Acquisition Policies Act of 1970, as amended, (Uniform Act) for determination of Uniform Act relocation program benefit amounts, and file maintenance.

Frequency: The information will be collected once per displacement of a household, business, farm, or non-profit organization.

Estimated Average Burden per Response: 1 hour per respondent per personal interview.

Estimated Total Annual Burden Hours: It is expected that there is an estimated total of 4,600 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: December 18, 2024.
Jazmyne Lewis,
Information Collection Officer.

[FR Doc. 2024-30638 Filed 12-23-24; 8:45 am]

BILLING CODE 4910-22-P